NATIONAL SCIENCE FOUNDATION

Agency Information Collection Activities: Comment Request; Office of Civil Rights Civil Rights Case Management System

AGENCY: National Science Foundation.

ACTION: Notice.

SUMMARY: The National Science Foundation (NSF) is announcing plans to establish this collection. In accordance with the requirements of the Paperwork Reduction Act of 1995, we are providing opportunity for public comments on this action. After obtaining and considering public comment, NSF will prepare the submission requesting Office of Management and Budget (OMB) clearance of this collection for no longer than 3 years.

DATES: Written comments on this notice must be received by November 10, 2025 to be assured consideration. Comments received after that date will be considered to the extent practicable. Send comments to address below.

FOR FURTHER INFORMATION CONTACT: Suzanne H. Plimpton, Reports Clearance Officer, National Science Foundation, 2415 Eisenhower Avenue, Alexandria, Virginia 22314; telephone (703) 292-7556; or send email to splimpto@nsf.gov. Individuals who use a telecommunications device for the deaf (TDD) may call the Federal Information Relay Service (FIRS) at 1-800-877-8339, which is accessible 24 hours a day, 7 days a week, 365 days a year (including Federal holidays).

Comments: Comments are invited on: (a) whether the proposed collection of information is necessary for the proper performance of the functions of the Foundation, including whether the information will have practical utility; (b) the accuracy of the Foundation's estimate of the burden of the proposed collection of information; (c) ways to enhance the quality, utility, and clarity of the information to be collected; and (d) ways to minimize the burden of the collection of information on those who are to respond, including through the use of automated collection techniques or other forms of information technology.

SUPPLEMENTARY INFORMATION:

Title of Collection: Office of Civil Rights—Civil Rights Case Management System.

OMB Control No.: 3145-New.

Expiration Date of Approval: Not applicable.

Abstract: The U.S. National Science Foundation (NSF) Office of Civil Rights (OCR) processes discrimination complaints under various federal civil rights laws and regulations. Organizations that receive funding awards from NSF are prohibited from discriminating against individuals who participate in any NSF-funded programs, services, and activities. To ensure awardee organizations follow civil rights laws, OCR's Awardee Compliance Branch (ACB) receives and considers complaints for investigation of unlawful discrimination, harassment, and retaliation in NSF-funded programs, services, and activities.

OCR ACB is establishing an electronic case management system to receive, evaluate, process, investigate, and resolve allegations of discrimination, harassment, or retaliation. Complainants submit their complaint information into the case management system. Information collected and maintained by the system includes: name and contact information for the complainant; impacted party (i.e., complainant or other individual), witnesses, respondent, awardee organization; complaint information (which includes basis of discrimination or harassment, complaint description, remedies, and whether the complaint is filed in any other forum); any additional documentation; and a consent form for investigation and sharing of information with the relevant organization(s). If the complaint is accepted for investigation, additional information may be collected that is relevant to the case. This information is collected to help OCR staff determine if there is jurisdiction to accept complaints for investigation by OCR or if the complaint should be referred to NSF's Office of the Inspector General (OIG), to the institution, or another federal agency. Information is only used and shared on a need-to-know basis.

Respondents: Those who experienced or witnessed harassment or discrimination within an NSF program or activity.

Estimated Number of Annual Respondents: 100.

Burden on the Public: Estimated 30 minutes to fill out the information to submit a complaint. The time varies by complaint. The estimated burden time is 50 hours a year.

Dated: September 9, 2025.
Suzanne H. Plimpton,
Reports Clearance Officer, National Science Foundation.

[FR Doc. 2025-17544 Filed 9-10-25; 8:45 am]

BILLING CODE 7555-01-P